SECURITIES AND EXCHANGE COMMISSION

Sunshine Act Meetings

TIME AND DATE: Notice is hereby given, pursuant to the provisions of the Government in the Sunshine Act, Public Law 94-409, the Securities and Exchange Commission will hold an Open Meeting on Wednesday, October 13, 2021 at 10:00 a.m.

PLACE: The meeting will be held via remote means and/or at the Commission's headquarters, 100 F Street NE, Washington, DC 20549.

STATUS: This meeting will begin at 10:00 a.m. (ET) and will be open to the public via webcast only on the Commission's website at www.sec.gov.

MATTERS TO BE CONSIDERED:

1. The Commission will be to consider whether to re-open the comment period for Listing Standards for Recovery of Erroneously Awarded Compensation, Release No. 33-9862 (Jul. 1, 2015), 80 FR 41143 (Jul. 14, 2015), and issue additional requests for comment on the proposed implementation of Section 10D of the Securities Exchange Act of 1934, as added by Section 954 of the Dodd-Frank Wall Street Reform and Consumer Protection Act.

CONTACT PERSON FOR MORE INFORMATION: For further information and to ascertain what, if any, matters have been added, deleted or postponed, please contact Vanessa A. Countryman from the Office of the Secretary at (202) 551-5400.

Authority: 5 U.S.C. 552b.

Dated: October 6, 2021.
Vanessa A. Countryman,
Secretary.

[FR Doc. 2021-22194 Filed 10-7-21; 8:45 am]

BILLING CODE 8011-01-P